ENVIRONMENTAL PROTECTION AGENCY

[FRL-7234-8]

Prospective Purchaser Agreement and Covenant Not To Sue Under the Comprehensive Environmental Response, Compensation, and Liability Act Regarding the DeRewal Chemical Company Superfund Site, Kingwood Township, NJ

AGENCY: Environmental Protection Agency.

ACTION: Notice of proposed prospective purchaser agreement and request for public comment.

SUMMARY: In accordance with Section 122(i) of the Comprehensive Environmental Response, Compensation, and Liability Act of 1980, as amended (“CERCLA”), 42 U.S.C. 9601 et seq., the U.S. Environmental Protection Agency (“EPA”) announces a proposed administrative settlement with the New Jersey Department of Environmental Protection (“NJDEP”) and the Township of Kingwood, New Jersey (“Township”) concerning the DeRewal Chemical Company Superfund Site in Kingwood Township, New Jersey. The proposed administrative settlement, also known as a prospective purchaser agreement, is memorialized in an Agreement And Covenant Not To Sue (“Agreement”) between EPA, NJDEP and the Township. By this Notice, EPA is informing the public of the proposed settlement and of the opportunity to comment.

Following a CERCLA investigation at the approximately 8.4-acre Site, where a chemical storage facility was formerly situated, EPA found that the soil and shallow groundwater were contaminated with hazardous substances. EPA issued a Record of Decision selecting soil and groundwater remedies for the Site. EPA completed the soil cleanup in 1998 and is studying whether the groundwater remedy is still required.

The Agreement concerns three of five parcels of land (the “Property”) that comprise the Site. The Township gained title to the Property following tax foreclosure actions in the 1990s and now operates a park there. Under the Agreement, NJDEP will purchase one of the parcels from the Township and conserve it as open space for recreation. The Township will convey a conservation easement to NJDEP on the two remaining parcels and maintain them as open space for recreation. Further, NJDEP and the Township will impose institutional controls on the Property and allow EPA access for remedial activities. In exchange, the United States will grant a covenant not to sue or take any other civil or administrative action against NJDEP and the Township for any and all civil liability, for injunctive relief or reimbursement of response costs pursuant to sections 106 or 107(a) of CERCLA, 42 U.S.C. 9606 or 9607(a) with respect to existing contamination present on or under the Site.

Finally, should NJDEP sell its parcel for a purpose other than conservation, the Agreement requires NJDEP to make payments to EPA. The Agreement also requires the Township to remit payments to EPA if the Township sells, leases or uses its parcels for purpose other than conservation. EPA believes this settlement is fair and in the public interest.

EPA will consider any comments received during the comment period and may withdraw or withhold consent to the proposed settlement if comments disclose facts or consideration that indicate the proposed settlement is inappropriate, improper, or inadequate. EPA's response to any comments received will be available for public inspection at the U.S. Environmental Protection Agency, Office of Regional Counsel, 290 Broadway—17th Floor, New York, New York 10007-1866. Telephone: (212) 637-3111.

Pursuant to EPA guidance, the Agreement may not be issued without the concurrence of the Assistant Attorney General for Environment and Natural Resources of the U.S. Department of Justice. The Assistant Attorney General has approved the proposed Agreement in writing.

DATES: Comments must be provided on or before July 19, 2002.

ADDRESSES: Comments should be sent to the U.S. Environmental Protection Agency, Office of Regional Counsel, 290 Broadway—17th Floor, New York, NY 10007-1866 and should refer to: DeRewal Chemical Company Superfund Site, U.S. EPA Index No. CERCLA-02-2000-2029.

FOR FURTHER INFORMATION CONTACT: U.S. Environmental Protection Agency, Office of Regional Counsel, 290 Broadway—17th Floor, New York, New York 10007-1866. Telephone: (212) 637-3111.

SUPPLEMENTARY INFORMATION: A copy of the proposed administrative settlement may be obtained in person or by mail from Lawrence Granite, U.S. Environmental Protection Agency, 290 Broadway—19th Floor, New York, NY 10007-1866. Telephone: (212) 637-4423.

Dated: March 27, 2002.
William J. Muszynski,
Deputy Regional Administrator, Region 2.

[FR Doc. 02-15458 Filed 6-18-02; 8:45 am]

BILLING CODE 6560-50-U